ENVIRONMENTAL PROTECTION AGENCY

[EPA-HQ-SFUND-2006-0361; FRL-8914-01-OLEM]

Proposed Information Collection Request; Comment Request: Information Collection Request Submitted to OMB for Review and Approval; Trade Secrets Claims for Community Right-To-Know and Emergency Planning (EPCRA Section 322), EPA ICR Number 1428.12, OMB Control Number 2050-0078

AGENCY: Environmental Protection Agency (EPA).

ACTION: Notice.

SUMMARY: The Environmental Protection Agency is planning to submit an information collection request (ICR), “Trade Secrets Claims for Community Right-To-Know and Emergency Planning (EPCRA section 322)” (EPA ICR No. 1428.12, OMB Control No. 2050-0078) to the Office of Management and Budget (OMB) for review and approval in accordance with the Paperwork Reduction Act. Before doing so, EPA is soliciting public comments on specific aspects of the proposed information collection as described in SUPPLEMENTARY INFORMATION. This is a proposed extension of the ICR, which is currently approved through April 30, 2022. An Agency may not conduct or sponsor and a person is not required to respond to a collection of information unless it displays a currently valid OMB control number.

DATES: Comments must be submitted on or before November 1, 2021.

ADDRESSES: Submit your comments, referencing Docket ID No. EPA-HQ-SFUND-2006-0361, to: (1) EPA online using www.regulations.gov (our preferred method), by email to superfund.docket@epa.gov or by mail to: EPA Docket Center, Environmental Protection Agency, Mail Code 28221T, 1200 Pennsylvania Ave. NW, Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Wendy Hoffman, Office of Emergency Management, Mail Code 5104A, Environmental Protection Agency, 1200 Pennsylvania Ave. NW, Washington, DC 20460; telephone number: (202) 564-8794; email address: hoffman.wendy@epa.gov.

SUPPLEMENTARY INFORMATION: Supporting documents which explain in detail the information that EPA will be collecting are available in the public docket for this ICR. The docket can be viewed online at http://www.regulations.gov. Out of an abundance of caution for members of the public and our staff, the EPA Docket Center and Reading Room is closed to the public, with limited exceptions, to reduce the risk of transmitting COVID-19. Our Docket Center staff will continue to provide remote customer service via email, phone, and webform. For further information about the EPA's public docket, Docket Center services and the current status, please visit us online at https://www.epa.gov/dockets. The telephone number for the Docket Center is 202-566-1744.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: This information collection request pertains to trade secrecy claims submitted under section 322 of the Emergency Planning and Community Right-to-Know Act of 1986 (EPCRA). EPCRA contains provisions requiring facilities to report to state and local authorities, and EPA, the presence of extremely hazardous substances (section 302), inventory of hazardous chemicals (sections 311 and 312) and manufacture, process and use of toxic chemicals (section 313). Section 322 of EPCRA allows a facility to withhold the specific chemical identity from these EPCRA reports if the facility asserts a trade secret claim for that chemical identity. The provisions in section 322 establish the requirements and procedures that facilities must follow to request trade secret treatment of chemical identities, as well as the procedures for submitting public petitions to the Agency for review of the “sufficiency” of trade secret claims.

Trade secret protection is provided for specific chemical identities contained in reports submitted under each of the following sections of EPCRA: (1) Section 303(d)(2)—Facility notification of changes that have or are about to occur; (2) section 303(d)(3)—Local Emergency Planning Committee (LEPC) requests for facility information to develop or implement emergency plans; (3) section 311—Material Safety Data Sheets (MSDSs) submitted by facilities, or lists of those chemicals submitted in place of the MSDSs; (4) section 312—Emergency and Hazardous Chemical Inventory forms (Tier I and Tier II); and (5) section 313—Toxic chemical release inventory form.

The burden estimates, numbers and types of respondents, wage rates and unit and total costs for this ICR renewal will be revised and updated if needed during the 60-day comment period while the ICR Supporting Statement is undergoing review at OMB.

Form Numbers: EPA Form 9510-1.

Respondents/affected entities: Entities potentially affected by this action are manufacturer and non-manufacturer facilities subject to reporting under sections 303, 311, 312 or 313 of the Emergency Planning and Community Right-to-Know Act (EPCRA).

Respondent's obligation to respond: Mandatory if a respondent decides to make a trade secret claim for the chemical identity for any of the chemicals in any of the reports the respondent is required to submit under EPCRA sections 303, 311, 312 or 313.

Estimated number of respondents: 283 trade secret claims.

Frequency of response: Annual, with reports submitted under sections 312 and 313.

Total estimated burden: 2,689 hours (per year). Burden is defined at 5 CFR 1320.03(b).

Total estimated cost: $164,989 (per year). There are no capital or operation and maintenance costs associated with this ICR.

Changes in Estimates: The small increase in estimated burden from the previous ICR is because the actual number of claims submitted was slightly higher than what EPA estimated it would receive in the previous ICR. Changes in estimated costs are attributable to updated wage rates and an increase in EPA O&M costs. Any additional change in burden or cost resulting from the 60-day OMB review period will be described and explained in this section when the updated ICR Supporting Statement is completed.

Dated: August 25, 2021.
Donna Salyer,
Director, Office of Emergency Management.

[FR Doc. 2021-18857 Filed 8-31-21; 8:45 am]

BILLING CODE 6560-50-P